NATIONAL TRANSPORTATION SAFETY BOARD

Notice of Meeting; Sunshine Act

Agenda

Time: 9:30 a.m., June 13, 2006.

Place: NTSB Conference Center, 429 L'Enfant Plaza SW., Washington, DC 20594.

Status: This one item is open to the public.

Matter to be Considered: 7793 Railroad Accident Report—Collision Between Two BNSF Railway Company Freight Trains Near Gunter, Texas, May 19, 2004.

News Media Contact: Ted Lopatkiewicz. Telephone: (202) 314-6100.

Individuals requesting specific accommodations should contact Chris Bisett at (202) 314-6305 by Friday, June 9, 2006.

The public may view the meeting via a live or archived webcast by accessing a line under “News & Events” on the NTSB home page at http://www.ntsb.gov.

FOR MORE INFORMATION CONTACT: Vicky D'Onofrio (202) 314-6410.

Dated: June 2, 2006.
Vicky D'Onofrio,
Federal Register Liaison Officer.

[FR Doc. 06-5189 Filed 6-2-06; 1:35 pm]

BILLING CODE 7533-01-M